DEPARTMENT OF THE INTERIOR

National Park Service

[NPS-WASO-NAGPRA-16188; PPWOCRADN0-PCU00RP14.R50000]

Notice of Inventory Completion for Native American Human Remains and Associated Funerary Objects in the Possession of the U.S. Department of the Interior, National Park Service, Rocky Mountain National Park, Estes Park, CO; Correction

AGENCY: National Park Service, Interior.

ACTION: Notice; correction.

SUMMARY: The U.S. Department of the Interior, National Park Service, Rocky Mountain National Park, has corrected an inventory of human remains, published in a Notice of Inventory Completion in the Federal Register on June 18, 2001. This notice corrects the cultural affiliation. Lineal descendants or representatives of any Indian tribe or Native Hawaiian organization not identified in this notice that wish to request transfer of control of these human remains should submit a written request to Rocky Mountain National Park. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Rocky Mountain National Park at the address in this notice by October 10, 2014.

ADDRESSES: Vaughn Baker, Superintendent, Rocky Mountain National Park, 1000 Highway 36, Estes Park CO 80517-8397, telephone (970) 586-1200, email vaughn_baker@nps.gov.

SUPPLEMENTARY INFORMATION: Notice is here given in accordance with the Native American Graves Protection and Repatriation Act (NAGPRA), 25 U.S.C. 3003, of the correction of an inventory of human remains under the control of Rocky Mountain National Park, Estes Park, CO. The human remains were removed from the Thompson River entrance area in Larimer County, CO.

This notice is published as part of the National Park Service's administrative responsibilities under NAGPRA, 25 U.S.C. 3003(d)(3). The determinations in this notice are the sole responsibility of the Superintendent, Rocky Mountain National Park.

This notice corrects the list of culturally affiliated Indian tribes published in a Notice of Inventory Completion in the Federal Register (66 FR 32843-32844, June 18, 2001). After publication of the notice, two additional Indian tribes were determined to be culturally affiliated. Transfer of control of the items in this correction notice has not occurred.

Correction

In the Federal Register (66 FR 32843-32844, June 18, 2001), paragraph six, sentence two is corrected by substituting the following sentence:

The Rocky Mountain National Park superintendent also has determined that, pursuant to 43 CFR 10.2 (e), there is a relationship of shared group identity that can be reasonably traced between these Native American human remains and the Arapaho Tribe of the Wind River Reservation, Wyoming; Cheyenne and Arapaho Tribes, Oklahoma (previously listed as the Cheyenne-Arapaho Tribes of Oklahoma); Jicarilla Apache Nation, New Mexico; Southern Ute Indian Tribe of the Southern Ute Reservation, Colorado; Ute Indian Tribe of the Uintah & Ouray Reservation, Utah; and Ute Mountain Tribe of the Ute Mountain Reservation, Colorado, New Mexico & Utah.

Additional Requestors and Disposition

Lineal descendants or representatives of any Indian tribe or Native Hawaiian organization not identified in this notice that wish to request transfer of control of these human remains should submit a written request with information in support of the request to Vaughn Baker, Superintendent, Rocky Mountain National Park, 1000 Highway 36, Estes Park CO 80517-8397, telephone (970) 586-1200, email vaughn_baker@nps.gov, by October 10, 2014. After that date, if no additional requestors have come forward, transfer of control of the human remains to the Arapaho Tribe of the Wind River Reservation, Wyoming; Cheyenne and Arapaho Tribes, Oklahoma (previously listed as the Cheyenne-Arapaho Tribes of Oklahoma); Jicarilla Apache Nation, New Mexico; Southern Ute Indian Tribe of the Southern Ute Reservation, Colorado; Ute Indian Tribe of the Uintah & Ouray Reservation, Utah; and Ute Mountain Tribe of the Ute Mountain Reservation, Colorado, New Mexico & Utah may proceed.

Rocky Mountain National Park is responsible for notifying the Arapaho Tribe of the Wind River Reservation, Wyoming; Cheyenne and Arapaho Tribes, Oklahoma (previously listed as the Cheyenne-Arapaho Tribes of Oklahoma); Jicarilla Apache Nation, New Mexico; Southern Ute Indian Tribe of the Southern Ute Reservation, Colorado; Ute Indian Tribe of the Uintah & Ouray Reservation, Utah; and Ute Mountain Tribe of the Ute Mountain Reservation, Colorado, New Mexico & Utah that this notice has been published.

Dated: July 10, 2014.
Sherry Hutt,
Manager, National NAGPRA Program.

[FR Doc. 2014-21487 Filed 9-9-14; 8:45 am]

BILLING CODE 4312-50-P